DEPARTMENT OF HOMELAND SECURITY

Coast Guard

33 CFR Part 165

[COTP Los Angeles-Long Beach 03-002]

RIN 1625-AA00

Safety Zone; Offshore Marine Terminal, El Segundo, CA

AGENCY: Coast Guard, DHS.

ACTION: Final rule.

SUMMARY: The Coast Guard is establishing a safety zone surrounding the El Segundo offshore marine terminal near Los Angeles, California. This action is necessary to ensure public safety and reduce the likelihood of a collision or other casualty involving a tank vessel moored at the offshore marine terminal. Entry into this zone will be prohibited unless specifically authorized by the Captain of the Port Los Angeles-Long Beach.

DATES: This rule is effective June 27, 2005.

ADDRESSES: Comments and material received from the public, as well as documents indicated in this preamble as being available in the docket, are part of docket COTP Los Angeles-Long Beach 03-002 and are available for inspection or copying at U.S. Coast Guard Marine Safety Office/Group Los Angeles-Long Beach, Waterways Management Division, 1001 South Seaside Avenue, Building 20, San Pedro, California, 90731 between 8 a.m. and 4 p.m., Monday through Friday, except Federal holidays.

FOR FURTHER INFORMATION CONTACT: Lieutenant Peter Gooding, Chief of Waterways Management Division, (310) 732-2020.

SUPPLEMENTARY INFORMATION:

Regulatory Information

On July 10, 2003, we published a notice of proposed rulemaking (NPRM) entitled “Safety Zone; Offshore Marine Terminal, El Segundo, CA” in the Federal Register (68 FR 41091). We received nine letters commenting on the proposed rule. No public meeting was requested, and none was held.

Background and Purpose

The Chevron Texaco Shipping Company requested that the Coast Guard establish a safety zone around the El Segundo offshore marine terminal near Los Angeles, California, to promote the safety of life and property at the facility and on the adjacent waters within the safety zone—including tank vessels and their crews, their apparatuses, and attending vessels and their crews.

El Segundo offshore marine terminal is located approximately 1 nautical mile offshore El Segundo in Santa Monica Bay, between Marina Del Rey and Redondo Beach, California. The offshore marine terminal consists of several tanker mooring buoys and seafloor pipelines connected to the mainland terminal. Large tank vessels are secured to tanker mooring buoys using multiple sets of mooring lines. Underwater pipelines that extend seaward from the mainland terminal rise up from the ocean bottom and are secured to both the buoys and the tankers. As a result, there are numerous mooring lines, pipelines, and other critical apparatuses that exist above, below, and on the surface of the water presenting an especially hazardous condition for other vessels transiting through this area. The hazards have contributed to vessel casualties resulting in pollution and in at least one case, a fatality. These conditions are present at all times, whether or not a tanker is in the offshore marine terminal.

Discussion of Comments and Changes

The Coast Guard received a total of nine letters in response to the notice of proposed rulemaking. What follows is a review of, and the Coast Guard's response to, the issues and questions that were presented by these commenters concerning the proposed regulations.

(1) Four commenters indicated that buoys should be placed at the corners of the safety zone to give a visual indication to boaters passing nearby.

The National Oceanic and Atmospheric Administration (NOAA) publishes charts of this area. A notation of the safety zone will be placed on the chart to advise mariners of the safety zone. In addition, NOAA is publishing a new chart for the El Segundo area that will show much greater detail of the surrounding area. This chart should provide sufficient aid for boaters to identify the safety zone without the placement of buoys which may interfere with vessels permitted to enter the zone.

(2) Two commenters indicated that publication of the safety zone needed to be widespread to ensure boaters are aware of the new zone.

In addition to appearing in the Federal Register, news of this safety zone will be published in the Notice to Mariners, Coast Pilot, and local boating publications to ensure wide dissemination of information about this safety zone.

(3) Two commenters indicated that the enforcement of the safety zone would not be adequate to keep vessels out of the zone.

As stated in the Background and Purpose section above, this zone is for the safety of the vessels transiting in the vicinity of the offshore moorings. It is not envisioned that enforcement of the safety zone will be a heavy burden on the Coast Guard.

(4) One commenter indicated that the safety zone should only be in place while tank vessels are present.

The presence of large mooring buoys, approximately 13 feet long and 6 feet in diameter, are hazardous to vessels operating in this area. These conditions are present at all times, whether or not a tanker is in the offshore marine terminal.

(5) One commenter indicated that the size of the safety zone should be larger than proposed and that it should extend to shore.

We feel as though the area prescribed is large enough to provide safe operations, while allowing a corridor for vessels to safely pass between the safety zone and the shoreline.

After reviewing all comments, we made no changes in the rule. Our final rule remains the same as our proposed rule.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

This safety zone will encompass only a small portion of the waterway and vessel traffic can pass safely around the affected area. In addition, vessels may be allowed to enter this zone on a case-by-case basis with permission of the Captain of the Port.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. We expect this rule will affect the following entities, some of which may be small entities: The owners and operators of private and commercial vessels intending to transit or anchor in Santa Monica Bay near El Segundo. The impact to these entities will not, however, be significant since this zone encompasses a small portion of the waterway and vessels may safely pass around the affected area. In addition, vessels may be allowed to enter this zone on a case-by-case basis with permission of the Captain of the Port.

Assistance for Small Entities

Under section 213(a) of the Small Business Regulatory Enforcement Fairness Act of 1996 (Pub. L. 104-121), we offered to assist small entities in understanding the rule so that they can better evaluate its effects on them and participate in the rulemaking process. However, we received no requests for assistance from any small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation because we are proposing to establish a safety zone.

A final “Environmental Analysis Check List” and a final “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. Add § 165.1156 to read as follows:

§ 165.1156 Safety Zone; Offshore Marine Terminal, El Segundo, CA.

(a) Location. The following area is a safety zone: All waters of Santa Monica Bay, from surface to bottom, enclosed by a line beginning at latitude 33°54′59″ N, longitude 118°26′50″ W; then to latitude 33°54′59″ N, longitude 118°27′34″ W; then to latitude 33°54′00″ N, longitude 118°27′34″ W; then to latitude 33°54′00″ N, longitude 118°26′50″ W; then to the point of beginning (NAD 1983).

(b) Regulations. (1) In accordance with the general regulations in § 165.23 of this part, entry into or movement within this zone is prohibited except for:

(i) Commercial vessels authorized to use the offshore marine terminal for loading or unloading;

(ii) Commercial tugs, lighters, barges, launches, or other vessels authorized to engage in servicing the offshore marine terminal or vessels therein;

(iii) Public vessels of the United States.

(2) Persons desiring to transit the area of the safety zone may contact the Captain of the Port at telephone number 1-800-221-8724 or on VHF-FM channel 16 (156.8 MHz). If permission is granted, all persons and vessels must comply with the instructions of the Captain of the Port or his or her designated representative.

(3) Nothing in this section shall be construed as relieving the owner or person in charge of any vessel from complying with the Navigation Rules as defined in 33 CFR chapter I, subchapters D and E and safe navigation practice.

Dated: May 13, 2005.
Peter V. Neffenger,
Captain, U.S. Coast Guard, Captain of the Port, Los Angeles-Long Beach.

[FR Doc. 05-10594 Filed 5-26-05; 8:45 am]

BILLING CODE 4910-15-P